DEPARTMENT OF ENERGY

Federal Energy Regulatory Commission

Sunshine Act Meeting

AGENCY HOLDING MEETING: Federal Energy Regulatory Commission.

FEDERAL REGISTER CITATION OF PREVIOUS ANNOUNCEMENT: May 15, 2000, 65 FR 30985.

PREVIOUSLY ANNOUNCED TIME AND DATE OF MEETING: May 17, 2000, 10 a.m.

CHANGE IN THE MEETING: The following Docket No. and Company has been added as Item CAE-34 on the Agenda scheduled for May 17, 2000 meeting.

Item No.

CAE-34

Docket No. and Company

EL00-75-000, Notice of Interim Procedures to Support Industry Reliability Efforts and Requests for Commission

David P. Boergers,
Secretary.

[FR Doc. 00-12909 Filed 5-18-00; 11:49 am]

BILLING CODE 6717-01-M